DEPARTMENT OF VETERANS AFFAIRS

Notice of Performance Review Board Members

AGENCY: Corporate Senior Executive Management Office, Department of Veterans Affairs (VA).

ACTION: Notice.

SUMMARY: Under the provisions of 5 U.S.C. 4314(c)(4) agencies are required to publish a notice in the Federal Register of the appointment of Performance Review Board (PRB) members. This notice announces the appointment of persons to serve on the Performance Review Board of the Department of Veterans Affairs.

ADDRESSES: Corporate Senior Executive Management Office, Department of Veterans Affairs, 810 Vermont Avenue NW., Washington, DC 20420.

FOR FURTHER INFORMATION CONTACT: Contact Tia N. Butler, Executive Director, Corporate Senior Executive Management Office (052), Department of Veterans Affairs, 810 Vermont Avenue NW., Washington, DC 20420, (202) 461-7865.

SUPPLEMENTARY INFORMATION: The membership of the Department of Veterans Affairs Performance Review Board is as follows: Robert L. Nabors II (Chair), A. Jacy Thurmond, Jr., David McLenachen, Richard Hipolit, Vivieca Simpson Wright, Bonnie Miranda, John Medve, Georgia Coffey, James Manker (Alternate), Tammy Czarnecki (Alternate), Edward Bradley (Alternate).

Signing Authority

The Secretary of Veterans Affairs, or designee, approved this document and authorized the undersigned to sign and submit the document to the Office of the Federal Register for publication electronically as an official document of the Department of Veterans Affairs. Robert L. Nabors II, Chief of Staff, Department of Veterans Affairs, approved this document on November 20, 2015, for publication.

Dated: November 24, 2015.
Jeffrey M. Martin,
Program Manager, Regulation Policy and Management, Office of the General Counsel.

[FR Doc. 2015-30338 Filed 11-30-15; 8:45 am]

BILLING CODE 8320-01-P